DEPARTMENT OF HOMELAND SECURITY

Bureau of Customs and Border Protection

Recordation of Trade Name: “DISPALCA”

ACTION: Notice of application for recordation of trade name.

SUMMARY: Application has been filed pursuant to section 133.12, Customs Regulations (19 CFR 133.12), for the recordation under section 42 of the Act of July 5, 1946, as amended (15 U.S.C. 1124), of the trade name “DISPALCA”. The trade name is owned by Caribbean Imports, Inc., a Florida corporation.

The application states that the trade name “Dispalca” is used in connection with the advertising and sale of pre-packaged seafood products in the United States, which are manufactured in Venezuela and Colombia and imported from South America and the Caribbean.

The applicant states that the only foreign entity entitled to use the “DISPALCA” trade name within the United States is Dispalca, located at Avenida 17, Los Haticos, Maracaibo, Venezuela. The company's use of the trade name is purportedly limited to packaging and shipping products to Caribbean Imports, Inc. The applicant also states that the trade name “DISPALCA” is solely and exclusively used by Caribbean Imports, Inc.

Before final action is taken on the application, consideration will be give to any relevant data, views, or arguments, submitted in writing, by any person in opposition to the recordation of this trade name. Notice of the action taken on the application for recordation of this trade name will be published in the Federal Register.

DATES: Comments must be received or on before January 20, 2004.

ADDRESSES: Written comments should be addressed to U.S. Customs and Border Protection, Attention: Office of Regulations & Rulings, Intellectual Property Rights Branch, 1300 Pennsylvania Avenue, NW., (Mint Annex), Washington, DC 20229.

FOR FURTHER INFORMATION CONTACT: La Verne Watkins, Intellectual Property Rights Branch at (202) 572-8710.

Dated: November 11, 2003.
George Frederick McCray,
Chief, Intellectual Property Rights Branch.

[FR Doc. 03-28808 Filed 11-18-03; 8:45 am]

BILLING CODE 4820-02-P